DEPARTMENT OF DEFENSE

Department of the Army

[Docket ID: USA-2024-HQ-0007]

Proposed Collection; Comment Request

AGENCY: Department of the Army, Department of Defense (DoD).

ACTION: 60-Day information collection notice.

SUMMARY: In compliance with the Paperwork Reduction Act of 1995, the Office of the Director of Army Safety announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 16, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Office of the Director of Army Safety (ODASAF), 2530 Crystal Dr., Arlington, VA 22202, ATTN: Mr. Tim Mikulski, or call ODASAF at (703) 697-1321.

SUPPLEMENTARY INFORMATION:

Title; Associated Form; and OMB Number: Radiation Exposure Data Collection; DD Form 1952 (Dosimetry Application and Record of Previous Radiation Exposure), DA Form 7689 (Bioassay Information Summary Sheet); OMB Control Number 0702-0150.

Needs and Uses: The information collection requirement is to document and record an individual's external and internal short and long-term exposure to radioactive materials and radiation generating equipment. The information collection is also utilized to monitor, evaluate, and control the risks and associated health hazards, conduct investigations, management studies and training to ensure individual qualifications and education in handling radioactive materials are maintained in compliance with the Nuclear Regulatory Commission (NRC) 10 CFR part 20, Army NRC license conditions, and Occupational Safety and Health Administration (OSHA) 29 CFR 1926.53.

Affected Public: Individuals or households.

Annual Burden Hours: 12.5.

Number of Respondents: 50.

Responses per Respondent: 1.

Annual Responses: 50.

Average Burden per Response: 15 minutes.

Frequency: On occasion.

Dated: May 13, 2024.
Aaron T. Siegel,
Alternate OSD Federal Register Liaison Officer, Department of Defense.

[FR Doc. 2024-10913 Filed 5-16-24; 8:45 am]

BILLING CODE 6001-FR-P